DEPARTMENT OF HOMELAND SECURITY

Transportation Security Administration

Intent To Request Renewal From OMB of One Current Public Collection of Information: Application for Participation in Biometric Device Performance Qualification Testing Program

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by December 12, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the Agency, including whether the information will have practical utility;

(2) Evaluate the accuracy of the Agency's estimate of the burden;

(3) Enhance the quality, utility, and clarity of the information to be collected; and

(4) Minimize the burden of the collection of information on those who are to respond, including using appropriate automated, electronic, mechanical, or other technological collection techniques or other forms of information technology.

Information Collection Requirement

1652-0031; Application for Participation in Biometric Device Performance Qualification Testing Program. Section 4011, Provision for the Use of Biometric and Other Technology, in Title IV—Transportation Security, of the Intelligence Reform and Terrorism Prevention Act of 2004 (Pub. L. 108-458, 118 Stat. 3638, 3712, Dec. 17, 2004) directs TSA to issue guidance for use of biometric technology in airport access control systems, including a list of qualified biometric devices and vendors, also known as a Qualified Products List (QPL).

In compliance, TSA has developed a process that examines the fitness of biometric technology for application to airport access control systems. The first step of the process will be for a manufacturer or vendor of a biometric device seeking TSA's evaluation of the device for placement on TSA's QPL to complete an application form, as well as to submit electronically via the Web a manufacturer's data package. The application form will be widely available to the public through TSA's Web address at http://www.tsa.gov/public. Go to the “Business Opportunities” link, then the “Current Opportunities” link.

As this specific qualification process is new, no historical data on the information collection burden exists. However, TSA estimates that the annual recordkeeping and reporting burden from the qualification process will be 800 hours, based on 100 responses (all collected electronically) at a rate of 8 hours per response. TSA will use the information collected to evaluate a biometric device's readiness for qualification performance testing, which supports TSA's obligation to produce a biometric QPL.

TSA published a notice in the Federal Register requesting emergency clearance of this collection from OMB on February 16, 2005 (70 FR 7956). OMB subsequently issued its approval of this collection on September 17, 2005, and assigned it OMB No. 1652-0031, with an expiration date of December 31, 2005.

Issued in Arlington, Virginia, on October 7, 2005.
Lisa S. Dean,
Privacy Officer.

[FR Doc. 05-20578 Filed 10-13-05; 8:45 am]

BILLING CODE 4910-62-P